DEPARTMENT OF COMMERCE

International Trade Administration

[A-428-836]

Notice of Amended Final Determination of Sales at Less Than Fair Value: Polyvinyl Alcohol From Germany

AGENCY: Import Administration, International Trade Administration, Department of Commerce.

Correction

In notice document 03-9735 beginning on page 19509 in the issue of Monday, April 21, 2003, make the following correction:

On page 19510, under the subheading “ITC Notification,” the second sentence should read, “As our final determination is affirmative, the ITC will, within 120 days from the date of the preliminary determination, determine whether these imports are materially injuring, or threaten material injury to, the U.S. industry.”

Dated: April 23, 2003.
Joseph A. Spetrini,
Acting Assistant Secretary for Import Administration.

[FR Doc. 03-10551 Filed 4-28-03; 8:45 am]

BILLING CODE 3510-DS-P